FEDERAL COMMUNICATIONS COMMISSION

47 CFR Part 0

[DA 08-2062]

List of Office of Management and Budget (OMB) Approved Information Collection Requirements

AGENCY: Federal Communications Commission.

ACTION: Final rule.

SUMMARY: This document revises the Commission's list of Office of Management and Budget (OMB) approved public information collection requirements with their associated OMB expiration dates. This list will provide the public with a current list of public information collection requirements approved by OMB and their associated control numbers and expiration dates as of August 29, 2008.

DATES: Effective October 3, 2008.

FOR FURTHER INFORMATION CONTACT: Judith B. Herman, Office of Managing Director, (202) 418-0214 or by e-mail to Judith-B.Herman@fcc.gov.

SUPPLEMENTARY INFORMATION: This document adopted on September 19, 2008 and released on September 19, 2008 by the Managing Director in DA 08-2062 revised 47 CFR 0.408 in its entirety.

1. Section 3507(a)(3) of the Paperwork Reduction Act of 1995, 44 U.S.C. 3507(a)(3), requires agencies to display a current control number assigned by the Director, Office of Management and Budget (“OMB”) for each agency information collection requirement.

2. Section 0.408 of the Commission's rules displays the OMB control numbers assigned to the Commission's public information collection requirements that have been review and approved by OMB.

3. Authority for this action is contained in Section 4(i) of the Communications Act of 1934 (47 U.S.C. 154(i)), as amended, and section 0.231 of the Commission's Rules. Since this amendment is a matter of agency organization procedure or practice, the notice and comment and effective date provisions of the Administrative Procedure Act do not apply. See 5 U.S.C. 553(b)(A)(d). For this reason, this rulemaking is not subject to the Congressional Review Act and will not be reported to Congress and the Government Accountability Office (GAO). See 5 U.S.C. 801(a)(1)(A).

4. Accordingly, it is ordered, that section 0.408 of the rules is revised as set forth in the revised text effective on October 3, 2008.

5. Persons having questions on this matter should contact Judith B. Herman at (202) 418-0214 or e-mail to Judith-B.Herman@fcc.gov.

List of Subjects in 47 CFR Part 0

Reporting, recordkeeping and third party disclosure requirements.

Federal Communications Comission
Marlene H. Dortch,
Secretary.

For the reasons discussed in the preamble, the Federal Communications Commission amends 47 CFR Part 0 as follows:

PART 0—COMMISSION ORGANIZATION

1. The authority citation for part 0 continues to read:

Authority: Secs. 5, 48 Stat. 1068, as amended; 47 U.S.C. 155, 225, unless otherwise noted.

2. Section 0.408 is revised to read as follows.

§ 0.408 OMB control numbers and expiration dates assigned pursuant to the Paperwork Reduction Act of 1995.

(a) Purpose. This section displays the control numbers and expiration dates for the Commission information collection requirements assigned by the Office of Management and Budget (“OMB”) pursuant to the Paperwork Reduction Act of 1995, Public Law 104-13. The Commission intends that this section comply with the requirement that agencies “display” current control numbers and expiration dates assigned by the Director, OMB, for each approved information collection requirement. Not withstanding any other provisions of law, no person shall be subject to any penalty for failing to comply with a collection of information subject to the Paperwork Reduction Act (PRA) that does not display a currently valid OMB control number. Questions concerning the OMB control numbers and expiration dates should be directed to the Associate Managing Director—Performance Evaluation and Records Management, (“AMD-PERM”), Office of Managing Director, Federal Communications Commission, Washington, DC 20554 by sending an e-mail to Judith-B.Herman@fcc.gov.

(b) Display.

OMB control No. | FCC form number or 47 CFR section or part, docket number or title identifying the collection | OMB expiration date
3060-0004 | Secs. 1.1307 and 1.1311, Guidelines for Evaluating the Environmental Effects of Radiofrequency Radiation, ET Docket No. 93-62 | 03/31/11
3060-0009 | FCC 316 | 06/30/11
3060-0010 | FCC 323 | 01/31/09
3060-0016 | FCC 346 | 03/31/11
3060-0017 | FCC 347 | 05/31/09
3060-0027 | FCC 301 | 08/31/11
3060-0029 | FCC 302-DTV | 05/31/11
3060-0031 | FCC 314, FCC 315 | 06/30/11
3060-0053 | FCC 703 | 06/30/11
3060-0055 | FCC 327 | 10/31/09
3060-0056 | Part 68 | 05/31/11
3060-0057 | FCC 731 | 03/31/11
3060-0059 | FCC 740 | 02/28/10
3060-0061 | FCC 325 | Pending OMB Approval.
3060-0065 | FCC 442 | 06/30/11
3060-0068 | FCC 702 | 06/30/11
3060-0075 | FCC 345 | 06/30/11
3060-0076 | FCC 395 | 12/31/10
3060-0084 | FCC 323-E | 03/31/11
3060-0093 | FCC 405 | 01/31/09
3060-0095 | FCC 395-A | Pending OMB Approval.
3060-0106 | Part 43 | 05/31/10
3060-0110 | FCC 303-S | 06/30/11
3060-0113 | FCC 396/396-A | 12/31/09
3060-0126 | Sec. 73.1820 | 12/31/08
3060-0132 | FCC 1068A | 11/30/09
3060-0139 | FCC 854 | Pending OMB Approval.
3060-0147 | Sec. 64.804 | 01/31/09
3060-0149 | Part 63, Section 214, Secs. 63.01, 63.602; 63.50, 63.51, 63.52, 63.53; 63.61, 63.62, 63.63; 63.65, 63.66; 63.71; 63.90; 63.500, 63.501; 63.504, 63.505 and 63.601 | 03/31/11
3060-0157 | Sec. 73.99 | 02/28/09
3060-0161 | Sec. 73.61 | 05/31/09
3060-0166 | Part 42 | 11/30/10
3060-0168 | Sec. 43.43 | 09/30/09
3060-0169 | Secs. 43.51 and 43.53 | Pending OMB Approval.
3060-0170 | Sec. 73.1030 | 12/31/10
3060-0171 | Sec. 73.1125 | 12/31/10
3060-0174 | Secs. 73.1212, 76.1615, and 76.1715 | 02/28/09
3060-0175 | Sec. 73.1250 | 06/30/11
3060-0176 | Sec. 73.1510 | 02/28/09
3060-0178 | Sec. 73.1560 | 01/31/09
3060-0179 | Sec. 73.1590 | 10/31/10
3060-0180 | Sec. 73.1610 | 10/31/10
3060-0182 | Sec. 73.1620 | 05/31/10
3060-0184 | Sec. 73.1740 | 10/31/10
3060-0185 | Sec. 73.3613 | 02/28/11
3060-0188 | Call Sign Reservation and Authorization System | 11/30/10
3060-0190 | Sec. 73.3544 | 01/31/10
3060-0192 | Sec. 87.103 | 09/30/10
3060-0202 | Sec. 87.37 | 09/30/09
3060-0204 | Sec. 90.20(a)(2)(v) | 01/31/09
3060-0207 | Part 11 | 08/31/11
3060-0208 | Sec. 73.1870 | 09/30/09
3060-0213 | Sec. 73.3525 | 12/31/09
3060-0214 | Secs. 73.3526 and 73.3527; Secs. 76.1701 and 73.1943 | Pending OMB Approval.
3060-0216 | Sec. 73.3538 and Sec. 73.1690(e) | 02/28/11
3060-0219 | Sec. 90.20(a)(2)(xi) | 11/30/08
3060-0221 | Sec. 90.155 (b) and (d) | 01/31/11
3060-0222 | Sec. 97.213 | 09/30/09
3060-0223 | Sec. 90.129 | 01/31/09
3060-0228 | Sec. 80.59 | 07/31/10
3060-0233 | Part 36 | 11/30/09
3060-0236 | Sec. 74.703 | 06/30/11
3060-0248 | Sec. 74.751 | 02/28/11
3060-0249 | Secs. 74.781, 74.1281, and 78.69 | 10/31/09
3060-0250 | Secs. 73.1207, 74.784 and 74.1284 | 10/31/10
3060-0259 | Sec. 90.263 | 09/30/09
3060-0261 | Sec. 90.215 | 06/30/10
3060-0262 | Sec. 90.179 | 03/31/11
3060-0264 | Sec. 80.413 | 09/30/09
3060-0265 | Sec. 80.868 | 05/31/10
3060-0270 | Sec. 90.443 | 01/31/10
3060-0281 | Sec. 90.651 | 06/30/10
3060-0286 | Sec. 80.302 | 04/30/10
3060-0288 | Sec. 78.33 | 02/28/09
3060-0289 | Secs. 76.601, 76.1704, 76.1705, and 76.1717 | 06/30/11
3060-0290 | Sec. 90.517 | 04/30/11
3060-0291 | Sec. 90.477(a), (b)(2), (d)(2) and (d)(3) | 06/30/11
3060-0292 | Part 69 (Sec. 69.605) | 01/31/10
3060-0295 | Sec. 90.607(b)(1) and (c)(1) | 04/30/10
3060-0297 | Sec. 80.503 | 09/30/09
3060-0298 | Part 61 | 07/31/11
3060-0307 | Amendment of Part 90 of the Commission's Rules to Facilitate Future Development of SMR Systems in the 800 MHz Frequency Band | 01/31/10
3060-0308 | Sec. 90.505 | 04/30/10
3060-0310 | FCC 322 | 10/31/09
3060-0311 | Sec. 76.54 | 04/30/11
3060-0316 | Secs. 76.1700, 76.1702, 76.1703, 76.1704, 76.1707, and 76.1711 | 02/28/11
3060-0320 | Sec. 73.1350 | 03/31/10
3060-0325 | Sec. 80.605 | 09/30/11
3060-0329 | Sec. 2.955 | 01/31/09
3060-0331 | FCC 321 | 10/31/09
3060-0332 | Secs. 76.614 and 76.1706 | 11/30/10
3060-0340 | Sec. 73.51 | 01/31/10
3060-0341 | Sec. 73.1680 | 10/31/09
3060-0346 | Sec. 78.27 | 01/31/10
3060-0347 | Sec. 97.311 | 01/31/09
3060-0349 | Secs. 73.2080, 76.73, 76.75, 76.79, and 76.1702 | 01/31/10
3060-0355 | FCC 492 and FCC 492A | 07/31/10
3060-0357 | Sec. 63.701 | 06/30/11
3060-0360 | Sec. 80.409 | 11/30/10
3060-0370 | Part 32 | 04/30/11
3060-0384 | Secs. 64.904 and 64.905 | 01/31/11
3060-0386 | Sec. 73.1635 | 08/31/11
3060-0387 | Sec. 15.201(d) | 09/30/09
3060-0390 | FCC 395-B | Pending OMB Approval.
3060-0391 | Parts 54 and 36, Program to Monitor the Impacts of the Universal Service Support Mechanisms | 05/31/11
3060-0392 | 47 CFR Part 1, Subpart J, Pole Attachment Complaint Procedures | 01/31/10
3060-0394 | Sec. 1.420 | 06/30/11
3060-0395 | FCC Reports 43-02, FCC 43-05 and FCC 43-07 | Pending OMB Approval.
3060-0398 | Secs. 2.948 and 15.117(g)(2) | 08/31/09
3060-0400 | Tariff Review Plan | 03/31/09
3060-0404 | FCC 350 | 02/28/11
3060-0407 | Sec. 73.3598 | 06/30/11
3060-0410 | FCC 495A and FCC 495B | Pending OMB Approval.
3060-0411 | FCC 485 | 05/31/10
3060-0414 | Terrain Shielding Policy | 01/31/10
3060-0419 | Secs. 76.94, 76.95, 76.105, 76.106, 76.107, and 76.1609 | 07/31/11
3060-0422 | Sec. 68.5 | 09/30/10
3060-0423 | Sec. 73.3588 | 11/30/08
3060-0430 | Sec. 1.1206 | 04/30/11
3060-0433 | FCC 320 | 05/31/11
3060-0434 | Sec. 90.20(e)(6) | 05/31/11
3060-0436 | Equipment Authorization—Cordless Telephone Security Coding | 06/30/09
3060-0439 | Sec. 64.201 | 10/31/10
3060-0441 | Sec. 90.621(b)(4) and (b)(5) | 09/30/09
3060-0454 | Secs. 43.51, 64.1001, and 64.1002 | 08/31/11
3060-0463 | Telecommunications Relay Services and Speech-to-Speech Services for Individuals with Hearing and Speech Disabilities, Report and Order and Declaratory Ruling, CG Docket No. 03-123, FCC 07-186 | 07/31/11
3060-0466 | Secs. 73.1201, 74.783, and 74.1283 | 12/31/10
3060-0470 | Secs. 64.901 and 64.903, and RAO Letters 19 and 26 | 02/28/11
3060-0473 | Sec. 74.1251 | 09/30/11
3060-0474 | Sec. 74.1263 | 02/28/09
3060-0484 | Part 4 of the Commission's Rules Concerning Disruptions to Communications | 02/28/11
3060-0489 | Sec. 73.37 | 01/31/10
3060-0496 | FCC Report 43-08 | 03/31/10
3060-0500 | Sec. 76.1713 | 10/31/10
3060-0501 | Secs. 73.1942, 76.206 and 76.1611 | 01/31/09
3060-0506 | FCC 302-FM | 04/30/09
3060-0508 | Part 1 and Part 22 Reporting and Recordkeeping Requirements | 04/30/11
3060-0511 | FCC Report 43-04 | 10/31/08
3060-0512 | FCC Report 43-01 | 07/31/09
3060-0513 | FCC Report 43-03 | 07/31/09
3060-0514 | Sec. 43.21(b) | 03/31/09
3060-0515 | Sec. 43.21(c) | 08/31/11
3060-0519 | Rules and Regulations Implementing the Telephone Consumer Protection Act (TCPA) of 1991, Order, CG Docket No. 02-278 | 11/30/10
3060-0526 | Sec. 69.123, Density Pricing Zone Plans, Expanded Interconnection with Local Telephone Company Facilities | 08/31/11
3060-0531 | Local Multipoint Distribution Service (LMDS) | 01/31/10
3060-0532 | Secs. 2.1033(b)(10) and 15.121 | 12/31/08
3060-0537 | Sec. 13.217 | 04/30/11
3060-0546 | Sec. 76.59 | 03/31/09
3060-0548 | Secs. 76.1708, 76.1709, 76.1620, 76.56, and 76.1614 | 07/31/11
3060-0550 | FCC 328 | 09/30/11
3060-0560 | Sec. 76.911 | 07/31/10
3060-0561 | Sec. 76.913 | 11/30/09
3060-0562 | Sec. 76.916 | 04/30/10
3060-0565 | Sec. 76.944 | 12/31/09
3060-0567 | Sec. 76.962 | 12/31/10
3060-0568 | Secs. 76.970, 76.971 and 76.975 | 10/31/09
3060-0569 | Sec. 76.975 | 08/31/09
3060-0572 | Filing Manual for Annual International Circuit Status Reports | 05/31/10
3060-0573 | FCC 394 | 06/30/09
3060-0580 | Sec. 76.1710 | 01/31/10
3060-0584 | FCC 44 and FCC 45 | 04/30/09
3060-0589 | FCC 159, FCC 159-B, FCC 159-C, FCC 159-E, and FCC 159-W | 01/31/11
3060-0594 | FCC 1220 | 08/31/10
3060-0599 | Secs. 90.647 and 90.425 | 03/31/10
3060-0600 | FCC 175 | 11/30/09
3060-0601 | FCC 1200 | 08/31/10
3060-0607 | Sec. 76.922 | 11/30/09
3060-0609 | Sec. 76.934(e) | 10/31/10
3060-0625 | Sec. 24.103 | 04/30/10
3060-0626 | Sec. 90.483 | 12/31/10
3060-0627 | FCC 302-AM | 05/31/09
3060-0633 | Secs. 73.1230, 74.165, 74.432, 74.564, 74.664, 74.765, 74.832, and 74.1265 | 10/31/10
3060-0634 | Sec. 73.691 | 02/28/10
3060-0636 | Sec. 2.1075 | 04/30/09
3060-0645 | Sec. 17.4 | 04/30/09
3060-0647 | Annual Cable Price Survey and Supplemental Questions | 08/31/09
3060-0649 | Secs. 76.1601, 76.1617, 76.1697 and 76.1708 | 12/31/10
3060-0652 | Secs. 76.309, 76.1602, 76.1603, and 76.1619 | 03/31/11
3060-0653 | Sec. 64.703(b) and (c) | 04/30/11
3060-0655 | Request for Waivers of Regulatory and Application Fees Predicated on Allegations of Financial Hardship | 05/31/10
3060-0665 | Sec. 64.707 | 10/31/10
3060-0667 | Secs. 76.630, 76.1621, and 76.1622 | 03/31/11
3060-0668 | Sec. 76.936 | 12/31/10
3060-0669 | Sec. 76.946 | 02/28/11
3060-0674 | Sec. 76.1618 | 08/31/11
3060-0678 | FCC 312, Schedule S | 03/31/10
3060-0681 | Secs. 52.103 and 52.105 | 10/31/09
3060-0685 | FCC 1210 and FCC 1240 | 04/30/09
3060-0686 | Streamlining the International Section 214 Authorization Process and Tariff Requirements | 02/28/09
3060-0687 | Access to Telecommunications Equipment and Services by Persons with Disabilities, CC Docket No. 87-124 | 05/31/09
3060-0688 | FCC 1235 | 11/30/10
3060-0690 | Sec. 101.17 | 09/30/09
3060-0691 | Sec. 90.665 | 07/31/10
3060-0692 | Home Wiring Provisions | 03/31/10
3060-0695 | Sec. 87.219 | 01/31/09
3060-0698 | Secs. 23.20, 25.203, and 73.1030, Radio Astronomy Coordination Zone in Puerto Rico | 11/30/10
3060-0700 | FCC 1275 | 07/31/10
3060-0703 | FCC 1205 | 04/30/09
3060-0704 | Policy and Rules Concerning the Interstate, Interexchange Marketplace; Implementation of Section 254(g) of the Communications Act of 1934, as amended, CC Docket No. 96-61 | 01/31/09
3060-0706 | Cable Act Reform | Pending OMB Approval.
3060-0707 | Over-the Air Reception Devices (OTARD) | 06/30/11
3060-0710 | Policy and Rules Concerning the Implementation of the Local Competition Provisions in the Telecommunications Act of 1996—CC Docket No. 96-98 | 02/28/10
3060-0711 | Secs. 1.5001, 1.5002, 1.5003, 1.5004, 1.5005, 1.5006 and 1.5007, Implementation of Section 34(a)(1) of the Public Utility Holding Company Act of 1935 | 10/31/09
3060-0713 | Alternative Broadcast Inspection Program (ABIP) Compliance Notification | 04/30/11
3060-0715 | Telecommunications Carriers' Use of Customer Proprietary Network Information (CPNI) and Other Customer Information—CC Docket No. 96-115 | 07/31/11
3060-0716 | Secs. 73.88, 73.718, 73.685 and 73.1630 | 11/30/09
3060-0717 | Secs. 64.703(a), 64.709, and 64.710 | 06/30/11
3060-0718 | Part 101, Governing the Terrestrial Microwave Fixed Radio Service | 06/30/09
3060-0719 | Quarterly Report of IntraLATA Carriers Listing Payphone Automatic Number Identifications (ANIs) | 01/31/10
3060-0723 | Public Disclosure of Network Information by Bell Operating Companies (BOCs) | 10/31/09
3060-0725 | Quarterly Filing of Nondiscrimination Reports (on Quality of Service, Installation, and Maintenance) by Bell Operating Companies (BOCs) | 08/31/09
3060-0727 | Sec. 73.213 | 01/31/10
3060-0734 | Secs. 53.209, 53.211 and 53.213; Sections 260 and 271-276 of the Communications Act of 1934, as amended | 07/31/11
3060-0737 | Disclosure Requirements for Information Services Provided Under a Presubscription or Comparable Arrangement | 06/30/09
3060-0740 | Sec. 95.1015 | 01/31/09
3060-0741 | Implementation of the Local Competition Provisions of the Telecommunications Act of 1996—CC Docket No. 96-98 | 01/31/11
3060-0742 | Secs. 52.21, 52.22, 52.23, 52.24, 52.25, 52.26, 52.27, 52.28, 52.29, 52.30, 52.31, 52.32 and 52.33 and CC Docket No. 95-116 | 11/30/08
3060-0743 | Implementation of the Pay Telephone Reclassification and Compensation Provisions of the Telecommunications Act of 1996—CC Docket No. 96-128 | 01/31/10
3060-0745 | Implementation of the Local Exchange Carrier Tariff Streamlining Provisions of the Telecommunications Act of 1996, CC Docket No. 96-187 | 11/30/09
3060-0748 | Sec. 64.1504 | 04/30/10
3060-0749 | Sec. 64.1509 | 04/30/10
3060-0750 | Secs. 73.671 and 73.673 | 07/31/11
3060-0751 | Reports Concerning International Private Lines Interconnected to the U.S. Public Switched Network | 01/31/09
3060-0752 | Sec. 64.1510 | 04/30/10
3060-0754 | FCC 398 | 06/30/09
3060-0755 | Secs. 59.1, 59.2, 59.3 and 59.4 | 03/31/09
3060-0757 | FCC Auctions Customer Survey | 03/31/10
3060-0758 | Amendment of Part 5 of the Commission's Rules to Revise the Experimental Radio Service Regulations, ET Docket No. 96-256 | 03/31/10
3060-0760 | Access Charge Reform, CC Docket No. 96-262 | Pending OMB Approval.
3060-0761 | Sec. 79.1 | 12/31/08
3060-0763 | FCC Report 43-06 | 04/30/09
3060-0767 | Sections 1.2110, 1.2111, and 1.2112, Auction Forms and License Transfer Disclosure Requirements | 04/30/11
3060-0768 | 28 GHz Band Segmentation Plan Amending the Commission's Rules to Redesignate the 27.5—29.5 GHz Frequency Band, to Reallocate the 29.5—30.0 GHz Frequency Band, and to Establish Rules and Policies for Local Multipoint Distribution Services (LMDS) and for the Fixed Satellite Service (FSS) | 01/31/09
3060-0770 | Price Cap Performance Review for Local Exchange Carriers—CC Docket No. 94-1 (New Services) | 11/30/08
3060-0773 | Sec. 2.803 | 02/28/10
3060-0774 | Parts 36 and 54, Federal-State Joint Board on Universal Service | 04/30/11
3060-0775 | Sec. 64.1903 | 01/31/10
3060-0779 | Amendment of Part 90 of the Commission's Rules to Provide for Use of the 220 MHz Band by the Private Land Mobile Radio Service (PLMRS), PR Docket No. 89-552 | 09/30/10
3060-0782 | Petition for Limited Modification of LATA Boundaries to Provide Expanded Local Calling Service (ELCS) at Various Locations | 11/30/09
3060-0783 | Sec. 90.176 | 01/31/09
3060-0786 | Petitions for LATA Association Changes by Independent Telephone Companies | 11/30/09
3060-0787 | Implementation of Subscriber Carrier Selection Changes Provisions of the Telecommunications Act of 1996; Policies and Rules Concerning Unauthorized Changes of Consumers' Long Distance | 07/31/11
3060-0788 | DTV Showings/Interference Agreements | 01/31/11
3060-0790 | Sec. 68.110(c) | 10/31/09
3060-0791 | Accounting for Judgments and Other Costs Associated with Litigation, CC Docket No. 93-240 | 11/30/09
3060-0793 | Federal-State Joint Board on Universal Service, Procedures for Self-Certifying as a Rural Carrier, CC Docket No. 96-45 | 09/30/11
3060-0795 | FCC 606 | 06/30/11
3060-0798 | FCC 601 | 12/31/10
3060-0799 | FCC 602 | 12/31/10
3060-0800 | FCC 603 | 01/31/11
3060-0804 | FCC 465, FCC 466, FCC 466-A, and FCC 467 | Pending OMB Approval.
3060-0805 | Secs. 90.523, 90.527, 90.545 and 90.1211 | 07/31/11
3060-0806 | FCC 470 and FCC 471 | 01/31/11
3060-0807 | Sec. 51.803 and Supplemental Procedures for Petitions to Section 252(e)(5) of the Communications Act of 1934, as amended | 09/30/10
3060-0809 | Communications Assistance for Law Enforcement Act (CALEA) | 01/31/11
3060-0810 | Procedures for Designation of Eligible Telecommunications Carriers (ETCs) Pursuant to Section 214(e)(6) of the Communications Act of 1934, as amended | 09/30/09
3060-0812 | Exemption from Payment of Regulatory Fees When Claiming Non-Profit Status | 01/31/09
3060-0813 | Commission's Rules to Ensure Compatibility with Enhanced 911 Calling Systems | 02/28/09
3060-0814 | Sec. 54.301, Local Switching Support and Local Switching Support Data Collection Form and Instructions | 02/28/11
3060-0816 | FCC 477 | 06/30/11
3060-0817 | Computer III Further Remand Proceedings: BOC Provision of Enhanced Services (ONA Requirements), CC Docket No. 95-20 | 09/30/09
3060-0819 | Secs. 54.400, 54.401, 54.402, 54.403, 54.404, 54.405, 54.406, 54.407, 54.408, 54.409. 54.410, 54.411, 54.412, 54.413, 54.414, 54.415, 54.416 and 54.417, and FCC 497 | 07/31/11
3060-0823 | Part 64, Pay Telephone Reclassification | 06/30/11
3060-0824 | FCC 498 | 09/30/09
3060-0833 | Implementation of Section 255 of the Telecommunications Act of 1996: Complaint Filings | 04/30/11
3060-0835 | FCC 806, FCC 824, FCC 827 and FCC 829 | 04/30/09
3060-0841 | Public Notice—Additional Processing Guidelines for DTV (Nonchecklist Applications) | 02/28/11
3060-0844 | Carriage of the Transmissions of Digital Television Broadcast Stations | 11/30/10
3060-0848 | Deployment of Wireline Services Offering Advanced Telecommunications Capability—CC Docket No. 98-147 | 04/30/09
3060-0849 | Commercial Availability of Navigation Devices, CS Docket No. 97-80 | 06/30/10
3060-0850 | FCC 605 | 04/30/11
3060-0853 | FCC 479, FCC 486, and FCC 500 | 04/30/10
3060-0854 | Truth-in-Billing Format, CC Docket No. 98-170 | Pending OMB Approval.
3060-0855 | FCC 499-A and FCC 499-Q | 09/30/10
3060-0856 | FCC 472, FCC 473, and FCC 474 | 04/30/10
3060-0859 | Suggested Guidelines for Petitions for Ruling under Section 253 of the Communications Act | 06/30/09
3060-0862 | Handling Confidential Information | 06/30/11
3060-0863 | Satellite Delivery of Network Signals to Unserved Households for Purposes of the Satellite Home Viewer Act (SHVA) | 04/30/09
3060-0865 | Wireless Telecommunications Bureau Universal Licensing System Recordkeeping and Third-Party Disclosure Requirements | 07/31/10
3060-0874 | FCC 475B, FCC 2000 Series, FCC Form E | 09/30/10
3060-0876 | Sec. 54.703 and Secs. 54.719, 54.720, 54.721, 54.722, 54.723, 54.724 and 54.725 | 09/30/09
3060-0881 | Sec. 95.861 | 08/31/11
3060-0882 | Sec. 95.833 | 01/31/09
3060-0888 | Secs. 76.7, 76.9, 76.61, 76.914, 76.1003, 76.1302, and 76.1513 | 02/28/11
3060-0894 | Secs. 54.313 and 54.316 and Certification Letter Accounting for Receipt of Federal Support and Rate Comparability Review and Certification | 09/30/10
3060-0895 | FCC 502 | 05/31/10
3060-0896 | Broadcast Auction Form Exhibits | 12/31/08
3060-0900 | Compatibility of Wireless Services with Enhanced 911—CC Docket No. 94-102 | 02/28/09
3060-0901 | Reports of Common Carriers and Affiliates | 04/30/09
3060-0905 | Secs. 18.213 and 18.307 | 11/30/08
3060-0906 | FCC 317 | 05/31/09
3060-0910 | Third Report and Order in CC Docket No. 94-102 to Ensure Compatibility with Enhanced 911 Emergency Calling Systems | 09/30/09
3060-0912 | Cable Attribution Rules | 11/30/09
3060-0917 | FCC 160 | 03/31/10
3060-0918 | FCC 161 | 03/31/10
3060-0920 | FCC 318 | 06/30/11
3060-0921 | Petitions for LATA Boundary Modification for the Deployment of Advanced Services | 09/30/09
3060-0922 | FCC 397 | 09/30/09
3060-0927 | Auditor's Annual Independence and Objectivity Certification | 04/30/09
3060-0928 | FCC 302-CA | 01/31/10
3060-0931 | Maritime Mobile Services Identity (MMSI) | 06/30/09
3060-0932 | FCC 301-CA | 02/28/11
3060-0936 | Secs. 95.1215 and 95.1217 | 08/31/09
3060-0937 | Establishment of a Class A Television Service, MM Docket No. 00-10 | 09/30/10
3060-0938 | FCC 319 | 09/30/09
3060-0942 | Access Charge Reform, Price Cap Performance Review for Local Exchange Carriers, Low-Volume Long Distance Users, Federal-State Joint Board on Universal Service | 03/31/10
3060-0943 | Sec. 54.809 | 10/31/09
3060-0944 | Review of Commission Consideration of Applications Under the Cable Landing License Act | 03/31/09
3060-0949 | FCC 159-W | 03/31/10
3060-0950 | Bidding Credits for Tribal Lands, WT Docket No. 99-266 | 09/30/10
3060-0951 | Sec. 1.1204(b) Note, and Sec. 1.1206(a) Note 1 | 01/31/10
3060-0952 | Proposed Demographic Information and Notifications, CC Docket Nos. 98-147 and 96-98 | 01/31/10
3060-0953 | Wireless Medical Telemetry Service, ET Docket No. 99-255, FCC 00-211 | 04/30/10
3060-0955 | 2 GHz Mobile Satellite Service Reports | 02/28/10
3060-0957 | Requests for Waiver of Deadline on Location-Capable Handset Deployment (4th MO&O in CC Docket No. 94-102) | 12/31/10
3060-0960 | Secs. 76.122, 76.123, 76.124 and 76.127 | 04/30/11
3060-0962 | Redesignation of the 18 GHz Frequency Band, Blanket Licensing of Satellite Earth Stations in the Ka-Band, and the Allocation of Additional Spectrum for Broadcast Satellite Service Use | 11/30/08
3060-0967 | Sec. 79.2 | 09/30/10
3060-0968 | FCC 501 | 09/30/10
3060-0971 | Sec. 52.15 | 01/31/11
3060-0972 | FCC 507, FCC 508 and FCC 509 | 01/31/11
3060-0973 | Sec. 64.1120(e) | 10/31/10
3060-0975 | Secs. 68.3 and 1.4000 | 11/30/10
3060-0978 | Sec. 20.18, 911 Service, Fourth Report and Order | 04/30/09
3060-0979 | Spectrum Audit Letter | 09/30/09
3060-0980 | Sec. 76.66, Satellite Home Viewer Extension and Reauthorization Act of 2004 (SHVERA) Rules, Local Broadcast Signal Carriage Issues and Retransmission Consent Issues | 08/31/11
3060-0982 | Implementation of Low Power Television (LPTV) Digital Data Services Pilot Project | 11/30/10
3060-0984 | Secs. 90.35(b)(2) and 90.175(b)(1) | 09/30/10
3060-0986 | FCC 525 | 07/31/11
3060-0987 | 911 Callback Capability: Non-initialized Phones | 10/31/08
3060-0989 | Secs. 63.01, 63.03 and 63.04 | 11/30/08
3060-0991 | AM Measurement Data | 04/30/11
3060-0992 | Sec. 54.507(d)(1)-(4) | 12/31/10
3060-0994 | Flexibility for Delivery of Communications by Mobile Satellite Service Providers in the 2 GHz Band, the L-Band, and the 1.6/2.4 GHz Band | 01/31/10
3060-0995 | Sec. 1.2105(c) | 03/31/11
3060-0996 | AM Auction Section 307(b) Submissions | 02/28/11
3060-0997 | Sec. 52.15(k) | 04/30/11
3060-0998 | Sec. 87.109 | 08/31/10
3060-0999 | Sec. 20.19 | 07/31/11
3060-1000 | Sec. 87.147 | 12/31/10
3060-1003 | Communications Disaster Information Reporting System (DIRS) | 07/31/10
3060-1004 | Revision of the Commission's Rules to Ensure Compatibility with Enhanced 911 Emergency Calling Systems | 09/30/09
3060-1005 | Numbering Resource Optimization—Phase 3 | 07/31/11
3060-1007 | Streamlining and Other Revisions of Part 25 of the Commission's Rules | 07/31/10
3060-1008 | Reallocation and Service Rules for the 698-746 MHz Band (Television Channels 52-59) | Pending OMB Approval.
3060-1009 | FCC 499-M | 01/31/09
3060-1013 | Mitigation of Orbital Debris | 03/31/11
3060-1014 | Ku-Band NGSO FSS | 04/30/09
3060-1015 | Ultra Wideband Transmission Systems Operating Under Part 15 | 04/30/09
3060-1021 | Sec. 25.139 | 06/30/11
3060-1022 | Sec. 101.1403 | 01/31/09
3060-1023 | Sec. 101.103 | 01/31/09
3060-1024 | Sec. 101.1413 | 01/31/09
3060-1025 | Sec. 101.1440 | 01/31/09
3060-1026 | Sec. 101.1417 | 01/31/09
3060-1027 | Sec. 27.602 | 03/31/09
3060-1028 | International Signaling Point Code (ISPC) | 05/31/11
3060-1029 | Data Network Identification Code (DNIC) | 08/31/11
3060-1030 | Service Rules for Advanced Wireless Services (AWS) in the 1.7 GHz and 2.1 GHz Bands | 06/30/10
3060-1031 | Revision of the Commission's Rules to Ensure Compatibility with Enhanced 911 Emergency Calling Systems—Petition of City of Richardson, TX; Order on Reconsideration II | 10/31/09
3060-1033 | FCC 396-C | 05/31/10
3060-1034 | Digital Audio Broadcasting Systems and Their Impact on the Terrestrial Radio Broadcast Service | 12/31/10
3060-1035 | FCC 309, FCC 310 and FCC 311 | 01/31/09
3060-1036 | Potential Reporting Requirements on Local Exchange Carriers to Assist Expeditious Implementation of Wireless E911 Service | 05/31/09
3060-1038 | Digital Television Transition Information Questionnaires | 01/31/10
3060-1039 | FCC 620 and FCC 621 | Pending OMB Approval.
3060-1040 | Broadcast Ownership Rules, Report and Order in MB Docket No. 02-777 and MM Docket Nos. 02-235, 02-327, and 00-244 | 02/28/10
3060-1041 | Remedial Measures for Failure to Construct Digital Television Stations (DTV Policy Statement) | 06/30/09
3060-1042 | Request for Technical Support—Help Request Form | 11/30/10
3060-1043 | Telecommunications Relay Services and Speech-to-Speech Services for Individuals with Hearing and Speech Disabilities, CC Docket No. 98-67 | 03/31/11
3060-1044 | Review of the Section 251 Unbundling Obligations of Incumbent Local Exchange Carriers, CC Docket No. 01-338, and WC Docket No. 04-313, FCC 04-290, Order on Remand | 03/31/10
3060-1045 | FCC 324 | 11/30/09
3060-1046 | Part 64, Pay Telephone Reclassification and Compensation Provisions of the Telecommunications Act of 1996 | 06/30/11
3060-1047 | Telecommunications Relay Services and Speech-to-Speech Services for Individuals with Hearing and Speech Disabilities, Report and Order, CG Docket Nos. 03-123, FCC 05-203 | 02/28/09
3060-1048 | Sec. 1.929(c)(1) | 03/31/10
3060-1050 | Sec. 97.303 | 11/30/10
3060-1053 | Sec. 64.604, Telecommunications Relay Services, and Speech-to-Speech Services for Individuals with Hearing and Speech Disabilities, Two-Line Captioned Telephone Order,... | 05/31/10
3060-1054 | FCC 422-IB | 02/28/10
3060-1055 | FCC 423-IB | 02/28/10
3060-1056 | FCC 421-IB | 02/28/10
3060-1057 | FCC 420-IB | 02/28/10
3060-1058 | FCC 608 | 01/31/11
3060-1059 | Global Mobile Personal Communications by Satellite (GMPCS)/E911 Call Centers | 01/31/11
3060-1060 | Wireless E911 Coordination Initiative Letter | 10/31/10
3060-1061 | Earth Stations on Board Vessels (ESVs) | 04/30/11
3060-1062 | Schools and Libraries Universal Service Support Mechanism—Notification of Equipment Transfers | 07/31/10
3060-1063 | Global Mobile Personal Communications by Satellite (GMPCS) Authorization, Marketing and Importation Rules | 03/31/10
3060-1064 | Regulatory Fee Assessment True-Ups | 06/30/11
3060-1065 | Sec. 25.701 | 06/30/10
3060-1066 | FCC 312-R | 03/31/10
3060-1067 | FCC 312-EZ | 05/31/10
3060-1069 | Rules and Policies Concerning Attribution of Joint Sales Agreements in Local Television Markets, NPRM, MB Docket No. 94-246, FCC 04-173 | 08/31/10
3060-1070 | Allocations and Service Rules for the 71-76 GHz, 81-86 GHz, and 92-95 GHz Bands | 12/31/08
3060-1078 | Rules and Regulations Implementing the Controlling the Assault of Non-Solicited Pornography and Marketing Act of 2003 (CAN-SPAM Act), CG Docket No. 04-53 | 11/30/10
3060-1079 | Sec. 15.240, Radio Frequency Identification Equipment (RFID) | 02/28/11
3060-1080 | Collections for the Prevention or Elimination of Interference and for the Reconfiguration of the 800 MHz Band | 08/31/11
3060-1081 | Federal-State Joint Board on Universal Service, CC Docket No. 96-45 | 10/31/08
3060-1083 | Secs. 64.1300 through 64.1340 | 06/30/11
3060-1084 | Rules and Regulations Implementing Minimum Customer Account Record Obligations on All Local and Interexchange Carriers (CARE), CG Docket No. 02-386 | 06/30/10
3060-1085 | Collection of Location Information, Provision of Notice and Reporting on Interconnected Voice Over Internet Protocol (VoIP) E911 Compliance | 01/31/09
3060-1086 | Secs. 74.786, 74.787, 74.790, 74.794 and 74.796 | 07/31/11
3060-1087 | Section 15.615, Broadband Over Power Lines (BPL) | 07/31/11
3060-1088 | FCC 1088 Series | 03/31/10
3060-1089 | Telecommunications Relay Services and Speech-to-Speech Services for Individuals with Hearing and Speech Disabilities; Emergency Access Notice of Proposed Rulemaking and IP Relay/VRS Fraud.... | 10/31/10
3060-1092 | FCC 609-T and FCC 611-T | 01/31/11
3060-1094 | Licensing, Operation, and Transition of the 2500-2690 MHz Band | 10/31/09
3060-1095 | Surrenders of Authorization for International Carrier, Space Station and Earth Station Licensees | 12/31/09
3060-1096 | Prepaid Calling Card Service Provider Certification, WC Docket No. 05-68 | 02/28/10
3060-1098 | Rural Health Care Support Mechanism | 03/31/10
3060-1100 | Sec. 15.117 | 09/30/10
3060-1101 | Children's Television Requests for Preemption Flexibility | 06/30/10
3060-1103 | Sec. 76.41 | 07/31/10
3060-1104 | Sec. 83.682(d) | 03/31/11
3060-1105 | Digital TV Transition Report | 06/30/11
3060-1108 | Consummations of Assignments and Transfers of Control Authorization | 09/30/10
3060-1110 | Sunset of the Cellular Radiotelephone Service Analog Service Requirement and Related Matters, MO&O, FCC 07-103 | 10/31/10
3060-1111 | Sections 225 and 255, Interconnected Voice Over Internet Protocol (VoIP) Services | 01/31/11
3060-1112 | Comprehensive Review of the Universal Service Fund Management, Administration, and Oversight | 01/31/11
3060-1114 | Information Needed in Requests for Waiver of June 26, 2008 Deadline for Rebanding Completion | 09/30/08
3060-1115 | Secs. 15.124, 27.20, 54.418, 73.674, and 76.1630 | Pending OMB Approval.
3060-1116 | Submarine Cable Reporting | 10/31/08
3060-1117 | Viewer Notification Requirements in the Third DTV Periodic Report and Order, FCC 07-228 | Pending OMB Approval.
3060-1118 | DTV Retailer Site Visit Program | 12/31/08
3060-1119 | Section 12.3, Information Collection Regarding Redundancy, Resiliency and Reliability of 911 and E911 Networks and/or Systems as Set Forth in the Commission's Rules | 08/31/11
3060-XXXX | Service Quality Measurement Plan for Interstate Special Access and Monthly Useage Reporting Requirements (272 Sunset Rulemaking) | Pending OMB Approval.

[FR Doc. E8-23261 Filed 10-2-08; 8:45 am]

BILLING CODE 6712-01-P